AFRICAN DEVELOPMENT FOUNDATION

Board of Directors Executive Session Meeting

Meeting: African Development Foundation, Board of Directors Executive Session Meeting

Time: Tuesday, August 6, 2013 8:30 a.m. to 1:00 p.m.

Place: 1400 Eye Street, NW., Suite 1000, Washington, DC 20005

Date: Tuesday, August 6, 2013

Status

1. Open session, Tuesday, August 6, 2013, 8:30 a.m. to 12:00 p.m.

2. Closed session, Tuesday, August 6, 2013, 12:00 p.m. to 1:00 p.m.

Doris Mason Martin,
General Counsel, acting on behalf of the President/CEO, USADF.

[FR Doc. 2013-18428 Filed 7-30-13; 8:45 am]

BILLING CODE P